DEPARTMENT OF JUSTICE

Notice of Lodging of Proposed Consent Decree Under the Clean Water Act and the Resource Conservation and Recovery Act

On April 10, 2015, the Department of Justice lodged a proposed consent decree with the United States District Court for the Northern District of Illinois in the lawsuit entitled United States v. Beaver Oil Co., Inc., Civil Action No. 13 C 830.

The defendant in this case, Beaver Oil Company, Inc., operates a centralized waste treatment and used oil recycling facility in Hodgkins, Illinois. The lawsuit alleges that the defendant violated the Clean Water Act and the Resource Conservation and Recovery Act by failing to comply with regulations governing the handling of wastewater and hazardous wastes. The proposed settlement requires the defendant to perform injunctive relief and pay a civil penalty of $250,000.

The publication of this notice opens a period for public comment on the consent decree. Comments should be addressed to the Assistant Attorney General, Environment and Natural Resources Division, and should refer to United States v. Beaver Oil Co., Inc., D.J. Ref. No. 90-5-1-1-09169. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $20.50 (25 cents per page reproduction cost) payable to the United States Treasury.

Randall M. Stone,
Acting Assistant Section Chief, Environmental Enforcement Section, Environment and Natural Resources Division.

[FR Doc. 2015-09014 Filed 4-17-15; 8:45 am]

BILLING CODE 4410-15-P